DEPARTMENT OF TRANSPORTATION

Federal Aviation Administration

Advisory Circular 25.869-1, Electrical System Fire and Smoke Protection

AGENCY: Federal Aviation Administration (FAA), DOT.

ACTION: Notice of availability of Advisory Circular (AC) 25.869-1.

SUMMARY: The AC provides methods acceptable to the Administrator for showing compliance with revised airworthiness standards for fire protection of electrical system components on transport category airplanes. The guidance provided in the AC supplements the engineering and operational judgment that must form the basis of any compliance findings relative to electrical system fire and smoke protection to minimize the hazards to an airplane.

EFFECTIVE DATES: March 25, 2004.

FOR FURTHER INFORMATION CONTACT: Stephen Slotte, Airplane and Flightcrew Interface Branch ANM-111, Transport Airplane Directorate, Aircraft Certification Service, FAA, 1601 Lind Avenue SW., Renton, Washington 98055-4056; telephone (425) 227-2315; fax (425) 227-1320; e-mail steve.slotte@faa.gov.

SUPPLEMENTARY INFORMATION:

Availability of AC

The AC can be found and downloaded from the AC from the Internet at the link titled http://www.airweb.faa.gov/rgl. A paper copy may be obtained by contacting the person named above under the caption FOR FURTHER INFORMATION CONTACT.

Discussion

Advisory Circular 25.869-1 has been prepared to provide guidance on one means of demonstrating compliance with the requirements of § 25.869, “Electrical System Fire and Smoke Protection,” of Title 14, Code of Federal Regulations (CFR). Part 25 contains the airworthiness standards applicable to transport category airplanes.

The means of compliance described in AC 25.869-1 is intended to provide guidance to supplement the engineering and operational judgment that must for the basis of any compliance findings relative to paragraph 25.869(a). This paragraph concerns the protection of electrical systems from fire and smoke.

Harmonization of Standards and Guidance

The AC is based on recommendations submitted to the FAA by the Aviation Rulemaking Advisory Committee (ARAC). We initiated this action under the “Fast Track Harmonization Program” (64 FR 66522, November 26, 1999). The goal of “harmonization tasks,” such as this, is to ensure that:

• Where possible, standards and guidance do not require domestic and foreign parties to manufacture or operate to different standards for each country involved; and

• The standards and guidance adopted are mutually acceptable to the FAA and the foreign aviation authorities.

The guidance contained in the AC has been harmonized with that of the JAA, and provides a method of compliance that has been found acceptable to both the FAA and JAA.

Issued in Renton, Washington, on March 25, 2004.
Kalene C. Yanamura,
Acting Manager, Transport Airplane Directorate, Aircraft Certification Service.

[FR Doc. 04-8368 Filed 4-12-04; 8:45 am]

BILLING CODE 4910-13-M